DEPARTMENT OF THE INTERIOR

National Park Service

[2253-665]

Notice of Inventory Completion: Grand Rapids Public Museum, Grand Rapids, MI

AGENCY: National Park Service, Interior.

ACTION: Notice.

SUMMARY: The Grand Rapids Public Museum has completed an inventory of human remains and associated funerary objects, in consultation with the appropriate Indian tribes, and has determined that there is a cultural affiliation between the human remains and associated funerary objects and present-day Indian tribes. Representatives of any Indian tribe that believes itself to be culturally affiliated with the human remains and associated funerary objects may contact the Grand Rapids Public Museum. Repatriation of the human remains and associated funerary objects to the Indian tribes stated below may occur if no additional claimants come forward.

DATES: Representatives of any Indian tribe that believes it has a cultural affiliation with the human remains and associated funerary object should contact the Grand Rapids Public Museum at the address below by March 28, 2012.

ADDRESSES: Marilyn Merdzinski, Director of Collections and Preservation, Grand Rapids Public Museum, 272 Pearl St. NW., Grand Rapids, MI 49504, telephone (616) 929-1801.

SUPPLEMENTARY INFORMATION: Notice is here given in accordance with the Native American Graves Protection and Repatriation Act (NAGPRA), 25 U.S.C. 3003, of the completion of an inventory of human remains and an associated funerary object in the possession of the Grand Rapids Public Museum, Grand Rapids, MI. The human remains and associated funerary object were removed from an unknown location.

This notice is published as part of the National Park Service's administrative responsibilities under NAGPRA, 25 U.S.C. 3003(d)(3). The determinations in this notice are the sole responsibility of the museum, institution or Federal agency that has control of the Native American human remains and associated funerary object. The National Park Service is not responsible for the determinations in this notice.

Consultation

A detailed assessment of the human remains was made by the Grand Rapids Public Museum professional staff in consultation with representatives of the Tohono O'odham Nation of Arizona on behalf of themselves and the Ak Chin Indian Community of the Maricopa (Ak Chin) Indian Reservation, Arizona; Gila River Indian Community of the Gila River Indian Reservation, Arizona; and the Salt River Pima-Maricopa Indian Community of the Salt River Reservation, Arizona. The Zuni Tribe of the Zuni Reservation, New Mexico, and the Hopi Tribe of Arizona indicated they were affiliated with the Hohokam culture but did not take part in consultation.

History and Description of the Remains

At an unknown date, a Hohokam red on buff swirl designed vessel containing the cremated remains of one individual was removed from an unknown location by an unknown individual. At an unknown date, G.S. Knapp acquired the Hohokam crematory vessel. In 1914, G.S. Knapp sold the vessel to the Grand Rapids Public Museum. No known individuals were identified. The one associated funerary object is a pottery vessel.

Although the Grand Rapids Public Museum's records state that the vessel is from “Flats of Doe Run, MO” and is from a mound builder culture, Missouri is not an area traditionally occupied by the Hohokam, and the vessel type is indicative of an Arizona origin. On November 12, 2010, the vessel was identified by Peter Steere of the Tohono O'odham Nation of Arizona as being an Early-Middle Rincon Phase Red-on-Brown design from the Tucson Basin, ca. A.D. 1100. In 1990, representatives of the Ak Chin Indian Community of the Maricopa (Ak Chin) Indian Reservation, Arizona; Gila River Indian Community of the Gila River Indian Reservation, Arizona; Salt River Pima-Maricopa Indian Community of the Salt River Reservation, Arizona; and Tohono O'odham Nation of Arizona issued a joint policy statement claiming ancestral ties to the Hohokam cultural traditions.

Determinations Made by the Grand Rapids Public Museum

Officials of the Grand Rapids Public Museum have determined that:

• Pursuant to 25 U.S.C. 3001(9), the human remains described in this notice represent the physical remains of one individual of Native American ancestry.

• Pursuant to 25 U.S.C. 3001(3)(A), the one object described above is reasonably believed to have been placed with or near individual human remains at the time of death or later as part of the death rite or ceremony.

• Pursuant to 25 U.S.C. 3001(2), there is a relationship of shared group identity that can be reasonably traced between the Native American human remains and associated funerary object and the Tohono O'odham Nation of Arizona; Ak Chin Indian Community of the Maricopa (Ak Chin) Indian Reservation, Arizona; Gila River Indian Community of the Gila River Indian Reservation, Arizona; and the Salt River Pima-Maricopa Indian Community of the Salt River Reservation, Arizona.

Additional Requestors and Disposition

Representatives of any Indian tribe that believes itself to be culturally affiliated with the human remains and associated funerary objects should contact Marilyn Merdzinski, Director of Collections and Preservation, Grand Rapids Public Museum, 272 Pearl St. NW., Grand Rapids, MI 49504, telephone (616) 929-1801, March 28, 2012. Repatriation of the human remains and associated funerary objects to the Tohono O'odham Nation of Arizona may proceed after that date if no additional claimants come forward.

The Grand Rapids Public Museum is responsible for notifying the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico, that this notice has been published.

Dated: February 22, 2012.
Sherry Hutt,
Manager, National NAGPRA Program.

[FR Doc. 2012-4515 Filed 2-24-12; 8:45 am]

BILLING CODE 4312-50-P